DEPARTMENT OF TRANSPORTATION

Federal Highway Administration

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried-out by TxDOT and a Memorandum of Understanding dated December 16, 2014, and executed by FHWA and TxDOT. The actions relate to various proposed highway projects in the State of Texas. Those actions grant licenses, permits, and approvals for the projects.

DATES: By this notice, TxDOT is advising the public of final agency actions subject to 23 U.S.C. 139(l)(1). A claim seeking judicial review of TxDOT and Federal agency actions on the highway project will be barred unless the claim is filed on or before March 25, 2019. If the Federal law that authorizes judicial review of a claim provides a time period of less than 150 days for filing such a claim, then that shorter time period still applies.

FOR FURTHER INFORMATION CONTACT: Carlos Swonke, Environmental Affairs Division, Texas Department of Transportation, 125 East 11th Street, Austin, Texas 78701; telephone: (512) 416-2734; email: carlos.swonke@txdot.gov. TxDOT's normal business hours are 8:00 a.m.-5:00 p.m. (central time), Monday through Friday.

SUPPLEMENTARY INFORMATION: Notice is hereby given that TxDOT and Federal agencies have taken final agency actions by issuing licenses, permits, and approvals for the highway projects in the State of Texas that are listed below.

The actions by TxDOT and Federal agencies and the laws under which such actions were taken are described in the Categorical Exclusion (CE) or Environmental Assessment (EA) issued in connection with the projects and in other key project documents. The CE or EA, and other key documents for the listed projects are available by contacting TxDOT at the address provided above.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. Conflans Road from Valley View Lane to State Highway (SH) 161 in Dallas County, Texas. The proposed improvements would include the extension of existing Conflans Road on new location in the City of Irving. The new roadway would be a four-lane divided section that would begin at Valley View Lane and end at SH 161. The length of the proposed project is approximately 0.881 miles. The purpose of the proposed project is to improve mobility and provide improved system connectivity. The actions by TxDOT and Federal agencies and the laws under which such actions were taken are described in the Final Environmental Assessment (EA) approved on July 12, 2018, Finding of No Significant Impact (FONSI) issued on September 7, 2018 and other documents in the TxDOT project file. The EA and other documents in the TxDOT project file are available by contacting TxDOT at the address provided above or the TxDOT Dallas District Office at 4777 E Highway 80, Mesquite, TX 75150; telephone: (214) 320-4480.

2. SH 155 from 0.3 Miles East of U.S. 259 to Glendia Drive in Upshur County, Texas. The purpose of this project is to widen SH 155 from a two-lane roadway to a four-lane roadway with a center left turn to improve safety and mobility for the traveling public. Total length of the project is approximately 0.69 miles. The actions by TxDOT and Federal agencies and the laws under which such actions were taken are described in the Categorical Exclusion Determination issued on April 2, 2018 and other documents in the TxDOT project file. The Categorical Exclusion Determination and other documents in the TxDOT project file are available by contacting TxDOT at the address provided above or the TxDOT Atlanta District Office at 701 East Main St., Atlanta, TX 75551; telephone: (903) 799-1306.

3. US 83/84 construct overpass and relocate ramps, from south of FM 204 to south of FM 707, Taylor County, Texas. The project consists of the construction of ramp safety improvements and the construction of a new overpass on U.S.-83 at FM 204 (Clark/Remington Road). This portion of US-83 includes a northern segment of approximately 0.5-miles from south of Iberis Road/County Road (CR) 164 to south of Saddle Creek Road, adjacent to the Lakes at Saddle Creek residential development. The purpose of the project is to enhance connectivity and increase safety in the area. The actions by TxDOT and Federal agencies and the laws under which such actions were taken are described in the Categorical Exclusion Determination issued on July 17, 2017 and other documents in the TxDOT project file. The Categorical Exclusion Determination and other documents in the TxDOT project file are available by contacting TxDOT at the address provided above or the TxDOT Abilene District Office at 4250 N Clack; telephone: (325) 676-6817.

4. IH 30 from FM 3419 to FM 989, in Bowie County, Texas. This project would construct one-way frontage roads, entrance and exit ramps, and turnarounds on Interstate Highway (IH) 30 in Bowie County, Texas. The total length of the project is approximately 2.6 miles. The purpose of this project is to improve safety, mobility, traffic operations, and local circulation for the traveling public. The actions by TxDOT and Federal agencies and the laws under which such actions were taken are described in the Categorical Exclusion Determination issued on August 1, 2018 and other documents in the TxDOT project file. The Categorical Exclusion Determination and other documents in the TxDOT project file are available by contacting TxDOT at the address provided above or the TxDOT Atlanta District Office at 701 East Main St., Atlanta, TX 75551; telephone: (903) 799-1306.

5. BS 71F Bridge Construction; at Colorado River in Colorado County, Texas. The proposed project would construct a new concrete bridge adjacent to the existing truss bridge over the Colorado River. The purpose of the project is to provide a safer crossing over the Colorado River and construct a new bridge to allow for the future rehabilitation of a historic truss bridge. The actions by TxDOT and Federal agencies and the laws under which such actions were taken are described in the Categorical Exclusion Determination issued on December 14, 2016 and other documents in the TxDOT project file. The Categorical Exclusion Determination and other documents in the TxDOT project file are available by contacting TxDOT at the address provided above or the TxDOT Yoakum District Office at 403 Huck St., Yoakum, TX 77995; telephone: (361) 293-4436.

6. State Highway 242 (SH 242) from Interstate Highway 45 to U.S. Highway 59 in Montgomery County, Texas. The project will consist of upgrading approximately 17.25 miles of SH 242, all within existing right-of-way. The current undivided two lane roadway will be expanded to a four-lane divided roadway separated by a depressed grassy median. The purpose of the project is to add capacity, improve mobility and traffic safety, and meet current roadway design standards. The actions by TxDOT and Federal agencies and the laws under which such actions were taken are described in the Categorical Exclusion Determination issued on March 3, 2017 and other documents in the TxDOT project file. The Categorical Exclusion Determination and other documents in the TxDOT project file are available by contacting TxDOT at the address provided above or the TxDOT Houston District Office located at 7600 Washington Avenue, Houston, Texas 77007; telephone: (713) 802-5076.

7. Greens Road from J.F. Kennedy Boulevard to US Highway 59 in Harris County, Texas. The approximately 2.27 mile project will require approximately 18.6 acres of new right-of-way and will consist of widening Greens Road from 2 to 4 lanes with a raised median, sidewalks, new street lighting, drainage improvements and a shared use lane to accommodate bicycle usage. The purpose of the project is to improve mobility and enhance safety. The actions by TxDOT and Federal agencies and the laws under which such actions were taken are described in the Categorical Exclusion Determination issued on January 23, 2017 and other documents in the TxDOT project file. The Categorical Exclusion Determination and other documents in the TxDOT project file are available by contacting TxDOT at the address provided above or the TxDOT Houston District Office located at 7600 Washington Avenue, Houston, Texas 77007; telephone: (713) 802-5076.

8. Interstate Highway 10 (I-10) from Farm-to-Market (FM) 359 to FM 3538 in Waller and Austin Counties, Texas. The project will consist of reconstructing approximately 16 miles of I-10, all within existing right-of-way, to add one additional through lane in each direction, rebuilding or replacing overpasses, converting the existing frontage road system from two-way to one-way and replacing the existing bridges over the Brazos River. The purpose of the project is to add capacity, improve mobility and traffic safety, enhance the hurricane evacuation network, and improve roadway horizontal and vertical alignments including clearance at bridges. The actions by TxDOT and Federal agencies and the laws under which such actions were taken are described in the Categorical Exclusion Determination issued on November 20, 2017 and other documents in the TxDOT project file. The Categorical Exclusion Determination and other documents in the TxDOT project file are available by contacting TxDOT at the address provided above or the TxDOT Houston District Office located at 7600 Washington Avenue, Houston, Texas 77007; telephone: (713) 802-5076.

9. Interstate Highway 45 (I-45) from Farm-to-Market 1764 to north of the Galveston Causeway Bridge in Galveston County, Texas. The project will reconstruct and widen I-45 from a six-lane interstate to an eight-lane interstate for approximately 10 miles and will require approximately 8.7 acres of new right-of-way. The purpose of the project is to add capacity, improve mobility and traffic safety, and enhance the hurricane evacuation network. The actions by TxDOT and Federal agencies and the laws under which such actions were taken are described in the Categorical Exclusion Determination issued on May 16, 2018 and other documents in the TxDOT project file. The Categorical Exclusion Determination and other documents in the TxDOT project file are available by contacting TxDOT at the address provided above or the TxDOT Houston District Office located at 7600 Washington Avenue, Houston, Texas 77007; telephone (713) 802-5076.

10. FM 407 at Denton Creek in Denton County, Texas. The proposed project would replace and widen the existing bridge at Denton Creek, bridge class culvert at Denton Creek Slough, and roadway approaches including the addition of a culvert extension just north of the bridge. The length of the proposed project is approximately .238 miles. The purpose of the proposed project is to bring the structures to current design standards and provide a safer approach to the two structures. The actions by TxDOT and Federal agencies and the laws under which such actions were taken are described in the documentation supporting the Categorical Exclusion (CE) Determination issued on January 8, 2018, and other documents in the TxDOT project file. The CE Determination and other documents are available by contacting TxDOT at the address provided above or the TxDOT Dallas District Office at 4777 E Highway 80, Mesquite, TX 75150; telephone: (214) 320-4480.

11. FM 148 from South of U.S. 80 to SP 557 in Kaufman County, Texas. The proposed improvements would widen the roadway from two to four lanes with a center turn lane and curb and gutter drainage. Sidewalks and shared use lanes would provide accommodations for pedestrians and bicyclists. The length of the proposed project is approximately 1.1 miles. The purpose of the proposed project is to improve mobility in the project area. The actions by TxDOT and Federal agencies and the laws under which such actions were taken are described in the documentation supporting the Categorical Exclusion Determination issued on May 30, 2017, and other documents in the TxDOT project file. The Categorical Exclusion Determination and other documents are available by contacting TxDOT at the address provided above or the TxDOT Dallas District Office at 4777 E Highway 80, Mesquite, TX 75150; telephone: (214) 320-4480.

12. FM 455 from U.S. 75 to CR 286 in Collin County, Texas. The proposed improvements would widen the roadway from a 2-lane rural to a 4-lane divided (6-lane ultimate) roadway. The length of the proposed project is approximately 0.232 miles. The purpose of the proposed project is to improve mobility in the project area. The actions by TxDOT and Federal agencies and the laws under which such actions were taken are described in the documentation supporting the Categorical Exclusion Determination issued on November 9, 2017, and other documents in the TxDOT project file. The Categorical Exclusion Determination and other documents are available by contacting TxDOT at the address provided above or the TxDOT Dallas District Office at 4777 E Highway 80, Mesquite, TX 75150; telephone: (214) 320-4480.

13. IH 20 Frontage Roads from North Main Street to Camp Wisdom Road in Duncanville in Dallas County, Texas. The proposed improvements include the construction of new concrete-paved eastbound frontage road between Oriole Boulevard and E. Camp Wisdom Road, and westbound frontage Road between N. Main Street and Oriole Boulevard. The new eastbound frontage road would extend the existing frontage road to E. Camp Wisdom Road. A portion of the existing eastbound frontage road would be re-aligned and reconstructed. The new westbound frontage road would extend west of Oriole Boulevard to the west. A section of the westbound frontage road would be reconstructed to align with the new proposed frontage road. The length of the proposed project is approximately 0.63 miles. The purpose of the proposed project is to improve access and circulation and increase safety in the project area. The actions by TxDOT and Federal agencies and the laws under which such actions were taken are described in the documentation supporting the Categorical Exclusion Determination issued on March 10, 2017, and other documents in the TxDOT project file. The Categorical Exclusion Determination and other documents are available by contacting TxDOT at the address provided above or the TxDOT Dallas District Office at 4777 E Highway 80, Mesquite, TX 75150; telephone: (214) 320-4480.

14. U.S. 377 from IH 35E to South of FM 1830 in Denton County, Texas. The proposed improvements would widen the roadway from two to six lanes (three in each direction). The length of the proposed project is approximately 1.68 miles. The purpose of the proposed project is to accommodate increasing traffic and alleviate traffic congestion. The actions by TxDOT and Federal agencies and the laws under which such actions were taken are described in the documentation supporting the Categorical Exclusion Determination issued on January 26, 2018, and other documents in the TxDOT project file. The Categorical Exclusion Determination and other documents are available by contacting TxDOT at the address provided above or the TxDOT Dallas District Office at 4777 E Highway 80, Mesquite, TX 75150; telephone: (214) 320-4480.

15. I-820/SH 121 Northeast Interchange Project, I-820 from SH 121/183 to Randol Mill Road, SH 121 from Handley Ederville Road to the south interchange with I-820, Tarrant County. TxDOT is proposing to reconstruct I-820 and SH 121 interchange in northern Tarrant County. The proposed actions would take place within the cities of North Richland Hills, Richland Hills, Hurst, and Fort Worth. The proposed project would reconstruct I-820 from approximately 2,000 feet north of Pipeline Road/Glenview Drive, at the northern I-820/SH 121/SH 183 interchange, to approximately 3,200 feet south of Randol Mill Rd. Additionally, SH 121 would be reconstructed from the southern I-820/SH 121 interchange to approximately 5,000 feet west of Handley-Ederville Rd. These improvements would also include the addition of connections providing direct access between SH 121 with I-820 and SH 121 with Trinity Boulevard. The proposed project would provide infrastructure to reduce traffic congestion on existing roadways; to provide a safer, more convenient route for traveling through the area; and to increase mobility and provide access (including improved emergency service access) to area. The actions by TxDOT and Federal agencies and the laws under which such actions were taken are described in the Categorical Exclusion Determination issued on November 7, 2017 and other documents in the TxDOT project file. The Categorical Exclusion Determination and other documents in the TxDOT project file are available by contacting TxDOT at the address provided above or the TxDOT Fort Worth District Office at 2501 S W Loop 820, Fort Worth, Texas 76133; telephone: (817) 370-6744.

16. Loop 337 from I-35 to Hillcrest Drive, Comal County. The project would widen Loop 337 from a 2-lane roadway to a 4-lane divided roadway with a wide median. The project is approximately 7.3 miles in length. The actions by TxDOT and Federal agencies and the laws under which such actions were taken are described in the Categorical Exclusion Determination issued on June 7, 2017, and other documents in the TxDOT project file. The Categorical Exclusion Determination and other documents in the TxDOT project file are available by contacting TxDOT at the address provided above or the TxDOT San Antonio District Office at 4615 NW Loop 410, San Antonio, TX 78229; telephone: (210) 615-5839.

17. RM 2222 from Bonaventure Drive to Ribelin Ranch Drive, Travis County, Texas. The project includes widening RM 2222 from a 4-lane to 6-lane divided roadway. The project is approximately 1.2 miles in length. The actions by TxDOT and Federal agencies and the laws under which such actions were taken are described in the Categorical Exclusion Determination issued on March 23, 2018, and other documents in the TxDOT project file. The Categorical Exclusion Determination and other documents in the TxDOT project file are available by contacting TxDOT at the address provided above or the TxDOT Austin District Office at 7901 North I-35, Austin, TX 78753; telephone: (512) 832-7000.

18. SH 71 from the SH 71/U.S. 183 interchange to Presidential Blvd., Travis County Texas. The project includes modifications to SH 71 to improve eastbound access to the Austin-Bergstrom International Airport. The project is approximately 2 miles in length. The actions by TxDOT and Federal agencies and the laws under which such actions were taken are described in the Categorical Exclusion Determination issued on January 11, 2017, and other documents in the TxDOT project file. The Categorical Exclusion Determination and other documents in the TxDOT project file are available by contacting TxDOT at the address provided above or the TxDOT Austin District Office at 7901 North I-35, Austin, TX 78753; telephone: (512) 832-7000.

19. RM 620 from Cornerwood Drive to Wyoming Springs Drive, Williamson County, Texas. The project includes restriping RM 620 from a four-lane to a six-lane roadway. The project is approximately 2 miles in length. The actions by TxDOT and Federal agencies and the laws under which such actions were taken are described in the Categorical Exclusion Determination issued on May 1, 2017, and other documents in the TxDOT project file. The Categorical Exclusion Determination and other documents in the TxDOT project file are available by contacting TxDOT at the address provided above or the TxDOT Austin District Office at 7901 North I-35, Austin, TX 78753; telephone (512) 832-7000.

20. SH 71 at Ross Road and Kellam Road, Travis County, Texas. The project includes constructing an overpass at Ross Road and Kellam Road with 2-lane east bound and west bound frontage roads. The project is approximately 2 miles in length. The actions by TxDOT and Federal agencies and the laws under which such actions were taken are described in the Categorical Exclusion Determination issued on August 30, 2017, and other documents in the TxDOT project file. The Categorical Exclusion Determination and other documents in the TxDOT project file are available by contacting TxDOT at the address provided above or the TxDOT Austin District Office at 7901 North I-35, Austin, TX 78753; telephone: (512) 832-7000.

21. FM 1103 from I-35 to Rodeo Way Drive, Guadalupe and Comal Counties, Texas. The project would widen Loop 1103 from a 2-lane roadway to a 4-lane roadway with a continuous left turn lane. The project is approximately 3.83 miles in length. The actions by TxDOT and Federal agencies and the laws under which such actions were taken are described in the Categorical Exclusion Determination issued on April 11, 2018, and other documents in the TxDOT project file. The Categorical Exclusion Determination and other documents in the TxDOT project file are available by contacting TxDOT at the address provided above or the TxDOT San Antonio District Office at 4615 NW Loop 410, San Antonio, TX 78229; telephone: (210) 615-5839.

22. I-10 from I-410 to Loop 1604, Bexar County, Texas. The project includes adding one main lane in each direction, reconstructing the existing I-10 main lanes to address deteriorating pavement conditions and adding auxiliary lanes between entrance and exit ramps where needed. Existing main lane bridge structures and culverts would be replaced and/or widened as needed. The project is approximately 6.2 miles in length. The actions by TxDOT and Federal agencies and the laws under which such actions were taken are described in the Categorical Exclusion Determination issued on January 18, 2018, and other documents in the TxDOT project file. The Categorical Exclusion Determination and other documents in the TxDOT project file are available by contacting TxDOT at the address provided above or the TxDOT San Antonio District Office at 4615 NW Loop 410, San Antonio, TX 78229; telephone: (210) 615-5839.

23. Loop 1604 from U.S. 281 to FM 1303, Bexar County, Texas. The project includes widening Loop 1604 from a 2-lane roadway to a 4-lane divided roadway with shoulders and pedestrian accommodations. The project is approximately 8.1 miles in length. The actions by TxDOT and Federal agencies and the laws under which such actions were taken are described in the Categorical Exclusion Determination issued on May 9, 2018, and other documents in the TxDOT project file. The Categorical Exclusion Determination and other documents in the TxDOT project file are available by contacting TxDOT at the address provided above or the TxDOT San Antonio District Office at 4615 NW Loop 410, San Antonio, TX 78229; telephone: (210) 615-5839.

24. I-410 at I-10 interchange, Bexar County, Texas. The project includes replacing the cloverleaf with direct connectors, reconfiguring and reconstructing main lanes, ramps, frontage roads, and surface street connections, including a continuous flow interchange to connect WW White Road with Corner Parkway. The project is approximately 8.87 miles in length. The actions by TxDOT and Federal agencies and the laws under which such actions were taken are described in the Categorical Exclusion Determination issued on May 17, 2018 and other documents in the TxDOT project file. The Categorical Exclusion Determination and other documents in the TxDOT project file are available by contacting TxDOT at the address provided above or the TxDOT San Antonio District Office at 4615 NW Loop 410, San Antonio, TX 78229; telephone: (210) 615-5839.

25. FM 659 (Zaragoza Road)/Montwood Drive/Loop (LP) 375 (Joe Battle Boulevard) interchange in El Paso County, Texas. The proposed project will improve traffic operations by reducing weaving movements, improve bicycle and pedestrian access in the area through the addition of bike lanes and sidewalks, and improve connectivity/operations by extending FM 659 within the project limits. The purpose of the proposed project is to provide connectivity. The actions by TxDOT and Federal agencies and the laws under which such actions were taken are described in the Categorical Exclusion Determination issued on September 5, 2017, and other documents in the TxDOT project file. The Categorical Exclusion Determination and other documents in the TxDOT project file are available by contacting TxDOT at the address provided above or the TxDOT El Paso District Office at 13301 Gateway West, El Paso, TX 79928-5410; telephone: (915) 790-4203.

26. IH 10 from Hamshire Road to FM 365, Jefferson County, Texas. TxDOT proposes to widen and reconstruct I-10 from a four-lane divided facility to a six-lane highway with a concrete median barrier. The project length is 6.8 miles. The purpose of the project is to improve safety and increase mobility by widening and reconstructing I-10. The actions by TxDOT and Federal agencies and the laws under which such actions were taken are described in the Categorical Exclusion Determination issued on July 21, 2017 and other documents in the TxDOT project file. The Categorical Exclusion Determination and other documents in the TxDOT project file are available by contacting TxDOT at the address provided above or the TxDOT Beaumont District Office at 8350 Eastex Freeway, Beaumont, Texas 77708; telephone: (409) 898-5745.

27. SH 73 from FM 1663 to Kiker Road in Chambers and Jefferson counties, Texas. The proposed project will construct a grade separation at the SH 124 intersection with continuous frontage roads, ramps, and U-turn improvements. The purpose of the proposed project is to increase safety in the project area. The actions by TxDOT and Federal agencies and the laws under which such actions were taken are described in the Categorical Exclusion Determination issued on March 6, 2018, and other documents in the TxDOT project file. The Categorical Exclusion Determination and other documents in the TxDOT project file are available by contacting TxDOT at the address provided above or the TxDOT, Beaumont District Office at 8350 Eastex Freeway, Beaumont, Texas 77708; telephone: (409) 898-5745.

28. FM 676 (5 Mile Road) from SH 364 (La Homa Road) to SH 107 in Hidalgo County, Texas. The proposed project would include the widening of FM 676 from a two lane roadway to a four lane curb and gutter roadway with a two-way left turn lane, sidewalks, and drainage structures. The purpose of the proposed project is to improve safety for traffic operations along the corridor. The actions by TxDOT and Federal agencies and the laws under which such actions were taken are described in the Categorical Exclusion Determination issued on October 4, 2018, and other documents in the TxDOT project file. The Categorical Exclusion Determination and other documents in the TxDOT project file are available by contacting TxDOT at the address provided above or the TxDOT Pharr District Office at 600 W. U.S. Expressway 83, Pharr, TX 78577; telephone (956) 702-6100.

29. SH 5 from SH 121 to CR 375 in Collin County, Texas. The proposed improvements would widen and reconstruct the roadway from two lanes to a four-lane divided urban roadway. The improved roadway would have an inside 12-foot wide travel lane, 14-foot wide outside shared use lane, and five to six-foot wide sidewalks with curb and gutter in each direction. The traffic lanes would be separated by a 42-foot wide raised central median. The length of the proposed project is approximately 8.58 miles. The purpose of the proposed project is to reduce congestion and improve mobility. The actions by TxDOT and Federal agencies and the laws under which such actions were taken are described in the Final Environmental Assessment (EA) approved on September 26, 2018, Finding of No Significant Impact (FONSI) issued on September 26, 2018 and other documents in the TxDOT project file. The EA and other documents are available by contacting TxDOT at the address provided above or the TxDOT Dallas District Office at 4777 E. Highway 80, Mesquite, TX 75150; telephone: (214) 320-4480.

Authority: 23 U.S.C. 139(l)(1).

Issued on: October 17, 2018.
Michael T. Leary,
Director, Planning and Program Development, Federal Highway Administration.

[FR Doc. 2018-23103 Filed 10-25-18; 8:45 am]

BILLING CODE 4910-22-P